DEPARTMENT OF DEFENSE

Office of the Secretary

Defense Advisory Committee on Diversity and Inclusion (DACODAI); Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the DACODAI will take place.

DATES: DACODAI will hold an open to the public—Friday, December 9, 2022 from 12:30 p.m. to 4:15 p.m. (EST).

ADDRESSES: The meeting will be held by videoconference. Participant access information will be provided after registering. Pre-meeting registration is required. See guidance in SUPPLEMENTARY INFORMATION, “Meeting Accessibility.”

FOR FURTHER INFORMATION CONTACT: Ms. Shirley Raguindin, (571) 645-6952 (voice), osd.mc-alex.ousd-p-r.mbx.dacodai@mail.mil (email). The most up-to-date changes to the meeting agenda can be found on the website: https://www.dhra.mil/DMOC/DACODAI.

SUPPLEMENTARY INFORMATION: This meeting is being held under the provisions of the Federal Advisory Committee Act (FACA) (5 U.S.C. Appendix), the Government in the Sunshine Act (5 U.S.C. 552b), and 41 CFR 102-3.140 and 102-3.150.

Availability of Materials for the Meeting: Additional information, including the agenda or any updates to the agenda, is available on the DACODAI website https://www.dhra.mil/DMOC/DACODAI. Materials presented in the meeting may also be obtained on the DACODAI website.

Purpose of the Meeting: The purpose of the meeting is for the DACODAI to receive briefings and have discussions on topics related to the racial/ethnic diversity, inclusion and equal opportunity within the Armed Forces of the United States.

Agenda: Friday, December 9, 2022 from 12:30 p.m. to 4:15 p.m. (EST). DACODAI will begin in open session on December 9, 2022 from 12:30 p.m. to 4:15 p.m. with opening remarks by Ms. Shirley Raguindin, the Designated Federal Officer (DFO) and the DACODAI's Chair, Gen. (Ret.) Lester Lyle, and additional remarks by The Honorable Gilbert R. Cisneros, Under Secretary of Defense for Personnel and Readiness. The DACODAI will receive the following briefings: (1) Partnership for Public Service Assessment on Government Agencies' Status of Meeting Diversity, Equity and Inclusion Objectives by Ms. Michelle Amante, Vice President, Federal Workforce Programs, and Mr. Kevin Johnson, Director, Federal Workforce Programs; (2) Department of the Air Force (DAF) Diversity and Inclusion by Colonel Jenise Carroll, Deputy Director, Office of Diversity and Inclusion (SAF/DI), Office of the Secretary of the Air Force; and (3) DoD Workplace Equal Opportunity Survey of Active Component and Reserve Component Members. Dr. Samantha Daniel, Chief of Diversity and Inclusion Research, Office of People Analytics, will brief the results of the 2017 Workplace Equal Opportunity Survey of Active Component Members and the 2019 Workplace Equal Opportunity Survey of Reserve Component Members, alongside Dr. Lisa Arfaa, Senior Advisor to the Executive Director of Force Resiliency, Office for Diversity, Equity and Inclusion, who will provide the policy perspective on the results. Closing remarks by the Chair, Gen. (Ret.) Lyles and the DFO will adjourn the meeting.

Meeting Accessibility: Pursuant to 5 U.S.C. 552b and 41 CFR 102-3.140 and 102-3.150, this meeting is open to the public from 12:30 p.m. to 4:15 p.m. (EST) on December 9, 2022. The meeting will be held by videoconference. The number of participants is limited and is on a first-come basis. Any member of the public who wish to participate must register by contacting DACODAI at osd.mc-alex.ousd-p-r.mbx.dacodai@mail.mil or by contacting Ms. Shirley Raguindin at (571) 645-6952 no later than Friday, December 2, 2022 (by 5:00 p.m. EST). Once registered, the videoconference information and/or audio number will be provided.

Special Accommodations: Individuals requiring special accommodations to access the public meeting should contact Ms. Shirley Raguindin at shirley.s.raguindin.civ@mail.mil (email) or (571-645-6952 (voice) no later than Friday, December 2, 2022 so that appropriate arrangements can be made.

Written Statements: Pursuant to 41 CFR 102-3.140(c), and section 10(a)(3) of the FACA, the public or interested parties may submit a written statement to the DACODAI. Individuals submitting a written statement must submit their statement no later than 5:00 p.m., Friday, December 2, 2022 to Ms. Shirley Raguindin (571) 645-6952 (voice) or to shirley.s.raguindin.civ@mail.mil (email).

Mailing address is Attention DACODAI, Ms. Shirley Raguindin, 4800 Mark Center Drive, Suite 06E22, Alexandria, VA 22350. Members of the public interested in making an oral statement, must submit a written statement. If a statement is not received by Friday, December 2, 2022, it may not be provided to, or considered by the DACODAI during this biannual business meeting. After reviewing the written statements, the Chair and the DFO will determine if the requesting persons are permitted to make an oral presentation. The DFO will review all timely submissions with the DACODAI Chair and ensure they are provided to the members of the DACODAI.

Members of the public may also email written statements at osd.mc-alex.ousd-p-r.mbx.dacodai@mail.mil. Written statements pertaining to the meeting agenda for the DACODAI's meeting on December 9, 2022 must be submitted no later than 5:00 p.m. EST, Friday, December 2, 2022 to be considered by the DACODAI membership prior to its December 9, 2022 meeting.

Dated: November 21, 2022.
Aaron T. Siegel,
Alternate OSD Federal Register Liaison Officer, Department of Defense.

[FR Doc. 2022-25773 Filed 11-23-22; 8:45 am]

BILLING CODE 5001-06-P